DEPARTMENT OF ENERGY

Federal Energy Regulatory Commission

[Docket No. AD10-14-000]

Reliability Standards Development and NERC and Regional Entity Enforcement; Notice of Technical Conference

June 15, 2010.

Take notice that the Federal Energy Regulatory Commission (Commission) will hold a Commissioner-led Technical Conference to address industry perspectives on certain issues pertaining to the development and enforcement of mandatory Reliability Standards for the Bulk-Power System. The conference will focus on the Electric Reliability Organization's (ERO) standards development process; communication and interactions between the Commission, the ERO and Regional Entities; and ERO and Regional Entity monitoring and enforcement.

This Technical Conference will be held on Tuesday, July 6, 2010, in the Commission Meeting Room (2C) at the Commission's Washington, DC headquarters, 888 First Street, NE., Washington, DC, from approximately 10 a.m. until 4 p.m. (e.d.t.). A further notice with detailed information, including the agenda, will be issued in advance of this conference. All interested parties are invited, and there is no registration list or registration fee to attend.

Commission conferences are accessible under section 508 of the Rehabilitation Act of 1973. For accessibility accommodations please send an e-mail to accessibility@ferc.gov or call toll free 1-866-208-3372 (voice) or 202-208-8659 (TTY), or send a fax to 202-208-2106 with the required accommodations.

Questions about this conference may be directed to:

Karin L. Larson, Office of the General Counsel—Energy Markets, Federal Energy Regulatory Commission, 888 First Street, NE., Washington, DC 20426, (202) 502-8236, Karin.Larson@ferc.gov.

Christopher Young, Office of Electric Reliability, Division of Reliability Standards, Federal Energy Regulatory Commission, 888 First Street, NE., Washington, DC 20426, (202) 502-6403, Christopher.Young@ferc.gov.

Kimberly D. Bose,
Secretary.

[FR Doc. 2010-14944 Filed 6-18-10; 8:45 am]

BILLING CODE 6717-01-P